DEPARTMENT OF THE INTERIOR

Bureau of Land Management

[LLES002000.L1320.DU0000]

Notice of Intent To Prepare a Resource Management Plan Amendment and Associated Environmental Assessment for Coal Lease by Application ALES-55199, AL

AGENCY: Bureau of Land Management, Interior.

ACTION: Notice.

SUMMARY: The Bureau of Land Management (BLM) is preparing a Resource Management Plan (RMP) Amendment and Associated Environmental Assessment (EA) to consider leasing Federal coal in response to lease application ALES-55199 for Jefferson County, Alabama. Coal industry representatives, State and local governments, and the general public are encouraged to submit information to assist in determining coal development potential and possible environmental consequences, as well as development conflicts with other resources.

DATES: This notice initiates the public scoping process for the Draft RMP Amendment and associated EA for the lease application. Comments on issues may be submitted in writing until August 26, 2013.

ADDRESSES: Comments may be submitted to the Bureau of Land Management, Southeastern States Field Office, 411 Briarwood Drive, Suite 404, Jackson, MS 39206 or via email: gtaylor@blm.gov or via fax: 918-621-4130.

FOR FURTHER INFORMATION CONTACT: Gary Taylor or Randall Mills, Southeastern States Field Office at 601-977-5400 or by email at gtaylor@blm.gov or ramills@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The coal lease application, filed by Best Coal, Inc., is located in Jefferson County, Alabama. The lease application area is approximately 5 miles north of Mt. Olive, Alabama, on Glovers Bend Road. The proposed lease area, totaling 160 acres, is described as follows:

Township 15 South, Range 4 West, Huntsville Meridian

Section 24, SW1/4NW1/4, N1/2SW1/4, SE1/2SW1/4.

The applicant proposes to mine the Federal coal in the lease application area by surface methods. The surface estate overlying the lease application area is privately owned. The BLM has the responsibility to address coal lease applications on Federal mineral estate under the Mineral Leasing Act of 1920, as amended. The Office of Surface Mining, in coordination with the State of Alabama, has responsibility to issue Mine Permits under the Surface Mining Control and Reclamation Act.

An interdisciplinary team will prepare the RMP Amendment and associated EA for the lease application. Preliminary issues, subject to change as a result of public input, are (1) Potential impacts of coal development on the surface and subsurface resources; and (2) Consideration of restrictions on lease rights to protect surface resources.

Preliminary planning criteria developed to guide the preparation of the planning analysis, subject to change as a result of public input, are as follows:

1. Land use planning and environmental analysis will be conducted in accordance with laws, regulations, executive orders and manuals. Planning will be conducted for the Federal coal mineral estate (Federal leasable mineral estates such as coal are under the administration of the BLM).

2. A mine plan scenario will be prepared for the Federal coal resource as an analytical tool to inform the National Environmental Policy Act (NEPA) analysis.

3. Resource data needed to evaluate the impacts of coal mining will be collected.

4. The planning team will work cooperatively with (a) Federal, State, county, and local governments and agencies; (b) Tribal governments; (c) Groups and organizations; and (d) Individuals. Comments relating to the preliminary issues and planning criteria should be submitted in writing to the address provided above.

An individual, business entity, or public body may participate in this process by providing information regarding coal or other resource information to assist in determining conflicts that may result from issuance of the coal lease. For other resource information, participants are asked to identify the particular resource value, to provide the reason that the resource would conflict with coal development and provide a map (minimal scale 1:24,000) showing the location of the resource.

The information available to the interdisciplinary team will be considered in addressing the specific resources and uses identified in the 20 Unsuitability Criteria listed at 43 CFR subpart 3461. Screening of the Federal coal lands in the application area through the Unsuitable Criteria will result in a determination as to which lands are (1) Acceptable for further leasing consideration with standard stipulations; (2) Acceptable for further leasing consideration with special stipulations; or (3) Unacceptable for further consideration for leasing.

Written comments should address one or more of the following: (1) Issues to be considered; (2) Whether the preliminary planning criteria are adequate for the issues; (3) Feasible and reasonable alternatives to examine; or (4) Relevant coal or other resource information.

The BLM will utilize and coordinate the NEPA commenting process to satisfy the public involvement process for Section 106 of the National Historic Preservation Act (16 U.S.C. 470f) as provided for in 36 CFR 800.2(d)(3). Native American tribal consultations were conducted in accordance with policy, and tribal concerns will be given due consideration, including impacts on Indian trust assets. Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 43 CFR 1610.2(c).

John Lyon,
State Director.

[FR Doc. 2013-17977 Filed 7-25-13; 8:45 am]

BILLING CODE 4310-GJ-P